DEPARTMENT OF COMMERCE

International Trade Administration

A-570-504

Petroleum Wax Candles from the People's Republic of China: Notice of Final Rescission of Antidumping Duty New Shipper Review of Shanghai R&R Import/Export Co., Ltd.

AGENCY: Import Administration, International Trade Administration, Department of Commerce.

SUMMARY: On September 30, 2003 the Department of Commerce (the Department) initiated a new shipper review of Shanghai R&R Import/Export Co., Ltd (Shanghai R&R) under the antidumping duty order on petroleum wax candles from the People's Republic of China (PRC) covering the period August 1, 2002, through July 31, 2003. See Petroleum Wax Candles from the People's Republic of China: Initiation of Antidumping Duty New Shipper Reviews, 68 FR 57876 (October 7, 2003) (Initiation Notice). On July 26, 2004, the Department issued its preliminary intent to rescind the new shipper review. See Petroleum Wax Candles From the People's Republic of China: Preliminary Intent to Rescind the Antidumping New Shipper Review of Shanghai R&R Import/Export Co., Ltd., 68 FR 46509 (August 3, 2004) (Preliminary Rescission Notice). The Department is now rescinding this new shipper review. See “Rescission of Review” section below.

EFFECTIVE DATE: November 1, 2004.

FOR FURTHER INFORMATION CONTACT: Scott Lindsay or Dana Mermelstein at (202) 482-0780 and (202) 482-1391, Office of AD/CVD Enforcement VI, Import Administration, International Trade Administration, U.S. Department of Commerce, 14th Street and Constitution Avenue, NW., Washington, DC 20230.

SUPPLEMENTARY INFORMATION:

Background

Since the Department published its preliminary determination to rescind this new shipper review, the following events have occurred. On September 7, 2004, Shanghai R&R and the National Candle Association (petitioner) filed case briefs. On September 9, 2004, the Department issued its verification report on the factors of production from Quingyuan County Artistic Craft and Candle Factory. See Memorandum For the File: Antidumping New Shipper Review of Petroleum Wax Candles from the People's Republic of China (PRC) (A-570-504): Factors Verification Report for Shanghai R&R Import/Export Co., Ltd at Qingyuan County Artistic Craft and Candle Factory. On September 14, 2004, Shanghai R&R and the petitioners filed rebuttal briefs. On September 14, 2004 the petitioner and Shanghai R&R filed comments on the Factors Verification Report. On September 17, 2004, the petitioner filed a rebuttal brief. A public hearing was held on September 28, 2004.

Scope of the Antidumping Duty Order

The products covered by this order are certain scented or unscented petroleum wax candles made from petroleum wax and having fiber or paper-cored wicks. They are sold in the following shapes: tapers, spirals, and straight-sided dinner candles; rounds, columns, pillars, votives; and various wax-filled containers. The products were classified under the Tariff Schedules of the United States (TSUS) item 755.25, Candles and Tapers. The products are currently classified under the Harmonized Tariff Schedule of the United States (HTSUS) item 3406.00.00. Although the HTSUS subheading is provided for convenience and customs purposes, our written description of the scope of this proceeding remains dispositive.

Rescission of Review

Pursuant to sections 351.214(b)(2)(iv) of the Department's regulations, a request for a new shipper review must contain documentation which establishes the volume of the exporter's first and subsequent shipments of subject merchandise to the United States and the date of the exporter's first sale of subject merchandise to an unaffiliated customer in the United States. At the time Shanghai R&R requested this new shipper review, it appeared that the regulatory requirements were met and we initiated the new shipper review. See Initiation Notice. At verification, the Department found documentation which brings into question that this sale was, in fact, made to the importer identified in Shanghai R&R's initial request for review and in all subsequent questionnaire responses. Shanghai R&R's explanation that mistakes were made in identifying the importer in certain sales and accounting records does not persuade us to find that the importer documented in the initial request was correctly identified. As such, we find that our initiation of this new shipper review was based on documents that failed to establish the date of the first sale to an unaffiliated customer in the United States. Therefore, pursuant to section 351.214(b)(2)(iv)(c) of the Department's regulations, the requirements for initiation have not been satisfied, and thus we have determined to rescind this new shipper review for Shanghai R&R.

All issues raised in the case briefs by parties to this proceeding and to which we have responded are listed in the Appendix to this notice and are addressed in the Issues and Decision Memorandum for the Final Results and Rescission of the New Shipper Review of Petroleum Wax Candles from the People's Republic of China, dated October 25, 2004, which is adopted by this notice. Parties can find a complete discussion of the issues raised in this new shipper review and the corresponding recommendations in this public memorandum, which is on file in the Central Records Unit, room B-099 of the main Commerce Building. In addition, a complete version of the Decision Memorandum can be accessed directly on the Web at http://ia.ita.doc.gov/frn/ index.html. The paper copy and electronic version of the Decision Memorandum are identical in content. Since the Department is rescinding the new shipper review, we are not calculating a company-specific rate for Shanghai R&R.

Cash Deposit Requirements

The Department will notify Customs and Border Protection (CBP) that bonding is no longer permitted to fulfill security requirements for shipments from Shanghai R&R of petroleum wax candles from the PRC entered, or withdrawn from warehouse, for consumption in the United States on or after the publication of this notice of rescission of antidumping duty new shipper review in the Federal Register. Further, effective upon publication of this notice for all shipments of the subject merchandise exported by Shanghai R&R, and entered, or withdrawn from warehouse, for consumption, the cash deposit rate will be the PRC-wide rate of 108.30 percent ad valorem.

Assessment of Antidumping Duties

The Department will instruct CBP to assess antidumping duties on all appropriate entries. Since we are rescinding this antidumping duty new shipper review with respect to Shanghai R&R, the PRC-wide rate of 108.30 percent in effect at the time of entry applies to all exports of petroleum wax candles from the PRC by Shanghai R&R entered, or withdrawn from warehouse for consumption during the period of review (August 1, 2002, through July 31, 2003). The Department will issue appropriate assessment instructions directly to CBP within 15 days of publication of this notice of rescission of antidumping duty new shipper review.

Notification to Importers

This notice also serves as a reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APO) of their responsibility concerning the disposition of proprietary information disclosed under APO in accordance with section 351.305(a)(3) of the Department's regulations. Timely written notification of the return/destruction of APO material or conversion to judicial protective order is hereby requested. Failure to comply with the regulations and terms of an APO is a violation, which is subject to sanctions.

We are issuing and publishing this determination and notice in accordance with sections 751(a)(2)(B) and 777(i)(1) of the Tariff Act of 1930, as amended.

Dated: October 25, 2004.
James J. Jochum,
Assistant Secretary for Import Administration.

Appendix--Issues in the Decision Memorandum

Comments

1. Whether Shanghai R&R met the requirements for a new shipper review;

2. The bona fides of Shanghai R&R's sale and use of adverse facts available;

3. Shanghai R&R's producer's eligibility as a new shipper;

4. Whether the factors of production information supplied by the producer is based on production during the POR.

[FR Doc. E4-2959 Filed 10-29-04; 8:45 am]

BILLING CODE 3510-DS-S